DEPARTMENT OF ENERGY

Federal Energy Regulatory Commission

[Docket Nos. ER23-22-001, EL22-41-000]

Puget Sound Energy, Inc.; Notice of Conference Call

On Tuesday, July 11, 2023, Commission staff will hold a conference call with Puget Sound Energy, Inc. (Puget Sound) beginning at 3 p.m. (Eastern Time). The purpose of the conference call is to discuss Puget Sound's formula rate protocols. The discussion during the conference call will be limited to this matter.

All interested parties are invited to listen by phone. The conference call will not be webcasted or transcribed. However, an audio listen-only line will be provided. Those wishing to access the listen-only line must email Jonathan Taylor at jonathan.taylor@ferc.gov by 5 p.m. (Eastern Time) on Friday, July 7, 2023, with your name, email, and phone number, in order to receive the call-in information before the conference call. Please use the following text for the subject line, “ER23-22-001 and EL22-41-000 listen-only line registration.”

Commission conferences are accessible under section 508 of the Rehabilitation Act of 1973. For accessibility accommodations, please send an email to accessibility@ferc.gov or call toll free 1 (866) 208-3372 (voice) or (202) 208-1659 (TTY), or send a FAX to (202) 208-2106 with the required accommodations.

For additional information, please contact Jonathan Taylor at (202) 502-6649 or jonathan.taylor@ferc.gov.

Dated: June 29, 2023.
Debbie-Anne A. Reese,
Deputy Secretary.

[FR Doc. 2023-14254 Filed 7-5-23; 8:45 am]

BILLING CODE 6717-01-P